DEPARTMENT OF LABOR

Occupational Safety and Health Administration

Freedom of Information Act; Notice of Lawsuit

This notice pertains to the 13,000 employers that were identified by the Occupational Safety and Health Administration on February 25, 2002 as having the highest lost workday injury and illness (LWDII) rates based on employer-reported data from calendar year 2000. On October 22, 2003, the Department was sued in the United States District Court for the Southern District of New York under the Freedom of Information Act to compel disclosure of the 13,000 LWDII rates in The New York Times v. U.S. Department of Labor, No. 03-CV-8334 (SAS). This notice is required by 29 CFR 70.26(h).

FOR FURTHER INFORMATION CONTACT: David Schmidt, Occupational Safety and Health Administration, Office of Statistical Analysis, Room N-3644, 200 Constitution Avenue, NW., Washington, DC 20210; Telephone: 202-693-1886.

Signed at Washington, DC the 31st day of December, 2003.
John L. Henshaw,
Assistant Secretary.

[FR Doc. 04-430 Filed 1-8-04; 8:45 am]

BILLING CODE 4510-26-P